DEPARTMENT OF THE INTERIOR

Bureau of Land Management

[LLID933000.L14300000.FR0000; IDI-36384]

Notice of Proposed Issuance of Recordable Disclaimer of Interest; Jerome County, ID

AGENCY: Bureau of Land Management, Interior.

ACTION: Notice.

SUMMARY: A request has been filed by the National Park Service on behalf of Jerome County, Idaho, for a Recordable Disclaimer of Interest involving an 8.67 acre portion of Hunt Road adjacent to the Minidoka National Historic Site. This parcel of land, known as Tract No. 2 on the Minidoka National Historical Site Proposed Boundary Map #194/80,004, is located in Jerome County approximately 17 miles northeast of Twin Falls, Idaho. The Consolidated Natural Resources Act of 2008, passed on May 8, 2008, authorizes the Secretary of the Interior to issue a Disclaimer of Interest in land to Jerome County, Idaho for the parcel identified as Tract No. 2.

DATES: Submit comments on this action on or before May 26, 2010. Only written comments will be accepted.

ADDRESSES: Address all written comments to Tom Dyer, State Director, Bureau of Land Management, Idaho State Office, 1387 S. Vinnell Way, Boise, ID 83709.

FOR FURTHER INFORMATION CONTACT: Laura Summers, Realty Specialist, at the above address or by phone at (208) 373-3866.

SUPPLEMENTARY INFORMATION: Pursuant to section 313(c)(6) of the Consolidated Natural Resources Act of 2008 (Pub. L. 110-229), and in accordance with Section 315 of the Federal Land Policy and Management Act of 1976 (FLPMA), 43 U.S.C. 1745, the Secretary of the Interior may issue to Jerome County, Idaho, a document of Disclaimer of Interest in land for a portion of Hunt Road located 17 miles northeast of Twin Falls, Idaho. This parcel, identified as Tract No. 2 on the Minidoka National Historical Site Proposed Boundary Map, number 194/80,004 (December 2006) is situated in Lots 1 and 2, Section 5, Township 9 South, Range 19 East of the Boise Meridian.

Tract No. 2 is a strip of land 200 feet in width, 100 feet on each side of the following described access road center line:

Beginning at a point which is Engineer's Center Line Station 92-40 opposite and 100 feet distant from which point the southwesterly line of the said strip of land intersects the north line of said Lot 2; said point being 80.00 feet north and 190.00 feet east of the north quarter corner of said Section 5; thence southeasterly, from a tangent which bears south 50° 07′ east, on a curve to the right having a radius of 716.20 feet, a distance of 80.10 feet to Engineer's Station 93-20.1 P.T.; thence south 43° 42′ 30″ east 243.50 feet to Engineer's Station 95-63.6 P.C.; thence southeasterly on a curve to the left having a radius of 1432.39 feet a distance of 176.90 feet to Engineer's Station 97-40.5 P.T. back—97-88.5 ahead; thence south 50° 47′ east 183.80 feet to Engineer's Station 99-72.3 P.C.; thence easterly on a curve to the left having a radius of 636.62 feet a distance of 910.30 feet to Engineer's Station 108-82.6 P.T.; thence north 47° 17′ east 61.70 feet to Engineer's Station 109-44.3 P.C.; thence northeasterly on a curve to the right having a radius of 716.20 feet a distance of 240.40 feet to Engineer's Station 111-84.7 P.T.; thence North 66° 31′ east 135 feet to a point, opposite and 100 feet distant from which point the southerly line of said strip of land intersects the northerly line of Twin Falls North Side Canal. The above described strip of land contains 8.67 acres, more or less.

On May 8, 2008, the Consolidated Natural Resources Act of 2008 (Pub. L. 110-229) established the Minidoka National Historical Site in Jerome County approximately 17 miles northeast of Twin Falls, Idaho. This Historical Site was established to protect, preserve, and interpret the resources associated with the former Minidoka Relocation Center where Japanese Americans were incarcerated during World War II. Section 313 of the Act makes several adjustments to the Historical Site boundary and gives the National Park Service Administrative Jurisdiction over the land that underlies the Historical Site. In addition to the boundary adjustments, the Act authorizes the Department of the Interior to issue to Jerome County, Idaho, a document of Disclaimer of Interest in land for the parcel identified as Tract No. 2 which entails an 8.67 acre portion of Hunt Road adjacent to the west end of the Minidoka National Historical Site.

Any person may submit written comments regarding the proposed issuance of a recordable Disclaimer of Interest to Thomas H. Dyer, State Director, Bureau of Land Management, Idaho State Office, 1387 S. Vinnell Way, Boise, ID 83709. Comments, including names and street addresses of commentors, will be available for public review at the BLM-Idaho State Office (see address above), during regular business hours, Monday through Friday, except holidays.

Before including your address, phone number, e-mail address, or other personal identifying information in your comment, you should be aware that your entire comment—including your personal identifying information—may be made publicly available at any time. While you can ask us in your comment to withhold your personal identifying information from public review, we cannot guarantee that we will be able to do so.

If no valid objection is received, a Disclaimer of Interest may be approved stating that the United States does not have a valid interest in this tract of land.

Jerry L. Taylor,
Chief, Branch of Lands, Minerals and Water Rights, Resource Services Division.

[FR Doc. 2010-3820 Filed 2-24-10; 8:45 am]

BILLING CODE 4310-GG-P